DEPARTMENT OF HOMELAND SECURITY

8 CFR Part 274a

[CIS No. 2441-08; Docket No. USCIS-2008-0001]

RIN 1615-AB69

Documents Acceptable for Employment Eligibility Verification

AGENCY: U.S. Citizenship and Immigration Services, DHS.

ACTION: Interim rule; delay of effective date.

SUMMARY: U.S. Citizenship and Immigration Services (USCIS), Department of Homeland Security (DHS), is extending the effective date of its interim final rule “Documents Acceptable for Employment Eligibility Verification,” for 60 days, from February 2, 2009 to April 3, 2009. This temporary extension will provide DHS with an opportunity for further consideration of this rule. USCIS also is extending the comment period for this rule for 30 days.

DATES: This document is effective January 30, 2009. The effective date of the interim rule amending 8 CFR Part 274a, published on December 17, 2008, at 73 FR 76505, is delayed until April 3, 2009. Written comments must be submitted on or before March 4, 2009.

ADDRESSES: You may submit comments, identified by DHS Docket No. USCIS-2008-0001 by one of the following methods:

• Federal eRulemaking Portal: http://www.regulations.gov. Follow the instructions for submitting comments.

• Mail: Chief, Regulatory Management Division, U.S. Citizenship and Immigration Services, Department of Homeland Security, 111 Massachusetts Avenue, NW., Suite 3008, Washington, DC 20529-2210. To ensure proper handling, please reference DHS Docket No. USCIS-2008-0001 on your correspondence. This mailing address may be used for paper, disk, or CD-ROM submissions.

• Hand Delivery/Courier: U.S. Citizenship and Immigration Services, Department of Homeland Security, 111 Massachusetts Avenue, NW., Suite 3008, Washington, DC 20529-2210. Contact Telephone Number is (202) 272-8377.

FOR FURTHER INFORMATION CONTACT: Stephen McHale, Verification Division, U.S. Citizenship and Immigration Services, Department of Homeland Security, 470 L'Enfant Plaza East, SW., Suite 8001, Washington, DC20529-2610, telephone (888) 464-4218 or e-mail at Everify@dhs.gov.

SUPPLEMENTARY INFORMATION: USCIS published an interim final rule, “Documents Acceptable for Employment Verification,” on December 17, 2008, amending its regulations governing the types of acceptable identity and employment authorization documents and receipts that employees may present to their employers for completion of the Form I-9, Employment Eligibility Verification. Under this interim rule, employers will no longer be able to accept expired documents to verify employment authorization on the Form I-9. This rule also adds a new document to the list of acceptable documents that evidence both identity and employment authorization and makes several technical corrections and updates. The rule is scheduled to become effective on February 2, 2009.

During the public comment period for this rulemaking action, which currently concludes on February 2, 2009, USCIS received a number of comments requesting an extension of the effective date. USCIS is extending the comment period for this rule to allow additional public comment on the substantive legal and policy issues under this interim final rule.

The 60-day extension of the effective date of this interim final rule also provides DHS officials the opportunity for further review and consideration of the interim final rule.

January 30, 2009.
Michael Aytes,
Acting Deputy Director, U.S. Citizenship and Immigration Services.

[FR Doc. E9-2360 Filed 1-30-09; 4:15 pm]

BILLING CODE 9111-97-P